DEPARTMENT OF TRANSPORTATION

Federal Aviation Administration

14 CFR Part 97

[Docket No. 30266; Amdt. No. 2067]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: An effective date for each SIAP is specified in the amendatory provisions.

Incorporation by reference-approved by the Director of the Federal Register on December 31, 1980, and reapproved as of January 1, 1982.

ADDRESSES: Availability of matters incorporated by reference in the amendment is as follows:

For Examination—

1. FAA Rules Docket, FAA Headquarters Building, 800 Independence Avenue, SW., Washington, DC 20591;

2. The FAA Regional Office of the region in which the affected airport is located; or

3. The Flight Inspection Area Office which originated the SIAP.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd. Oklahoma City, OK 73169 (Mail Address: P.O. Box 25082 Oklahoma City, OK 73125) telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPS, the TERPS criteria were applied to the conditions existing or anticipated at the affected airports. Because of the close and immediate relationship between these SIAPs and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore-(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Navigation (Air).

Issued in Washington, DC on August 31, 2001.
Nicholas A. Sabatini,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 is revised to read as follows:

Authority: 49 U.S.C. 106(g), 40103, 40113, 40120, 44701; and 14 CFR 11.49(b)(2).

2. Part 97 is amended to read as follows:

§§ 97.23, 97.25, 97.27, 97.29, 97.31, 97.33 and 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS, MLS/DME, MLS/RNAV; § 97.31 RADAR SIAPs; § 97.33 RNAV SIAPs; and § 97.35 COPTER SIAPs, identified as follows:

* * * Effective November 1, 2001

Hot Springs, AR, Memorial Field, RNAV (GPS) RWY 5, Orig

Hot Springs, AR, Memorial Field, GPS RWY 5, Orig, CANCELLED

Burbank, CA, Burbank-Glendale-Pasadena, VOR RWY 8, Amdt 10C

Burbank, CA, Burbank-Glendale-Pasadena, RNAV (GPS) RWY 8, Orig

Grand Junction, CO, Walker Field, RNAV (GPS) RWY 11, Orig

Grand Junction, CO, Walker Field, RNAV (GPS) RWY 29, Orig

Grand Junction, CO, Walker Field, GPS RWY 11, Orig, CANCELLED

Grand Junction, CO, Walker Field, GPS RWY 29, Orig-A, CANCELLED

Crystal River, FL, Crystal River, VOR/DME OR GPS-A, Amdt 1

Gainesville, FL, Gainesville Regional, VOR/DME RWY 6, Orig

Gainesville, FL, Gainesville Regional, VOR/DME RWY 10, Orig

Gainesville, FL, Gainesville Regional, VOR RWY 24, Orig

Gainesville, FL, Gainesville Regional, VOR RWY 28, Orig

Gainesville, FL, Gainesville Regional, LOC/DME BC RWY 10, Orig

Gainesville, FL, Gainesville Regional, NDB RWY 28, Amdt 9

Gainesville, FL, Gainesville Regional, ILS RWY 28, Amdt 12

Keystone Heights, FL, Keystone Airpark, VOR/DME RWY 4, Orig

Lake City, FL, Lake City Muni, NDB RWY 28, Amdt 2

Miami, FL, Dade-Collier Training and Transition, NDB OR GPS RWY 9, Amdt 13

Miami, FL, Dade-Collier Training and Transition, ILS RWY 9, Amdt 14

Williston, FL, Williston Muni, VOR/DME RWY 23, Orig

Centralia, IL, Centralia Muni, VOR-A, Amdt 1

Centralia, IL, Centralia Muni, RNAV (GPS) RWY 18, Orig

Centralia, IL, Centralia Muni, RNAV (GPS) RWY 36, Orig

Minneapolis, MN, Minneapolis-St Paul Intl (Wold-Chamberlain), NDB RWY 4, Amdt 20A

Minneapolis, MN, Minneapolis-St Paul Intl (Wold-Chamberlain), RNAV (GPS) RWY 4, Orig

Hazen, ND, Mercer County Regional, RNAV (GPS) RWY 14, Orig

Hazen, ND, Mercer County Regional, RNAV (GPS) RWY 32, Orig

Hazen, ND, Mercer County Regional, GPS RWY 14, Orig, CANCELLED

Hazen, ND, Mercer County Regional, GPS RWY 32, Orig, CANCELLED

Gordon, NE, Gordon Muni, RNAV (GPS) RWY 22, Orig

Gordon, NE, Gordon Muni, GPS RWY 22, Orig, CANCELLED

North Platte, NE, North Platte Regional Lee Bird Field, RNAV (GPS) RWY 30, Orig

Newark, NJ, Newark Intl, VOR RWY 11, Amdt 2

Newark, NJ, Newark Intl, RNAV (GPS) RWY 11, Orig

Newark, NJ, Newark Intl, GPS RWY 11, Orig, CANCELLED

Boise City, OK, Boise City, RNAV (GPS) RWY 4, Orig

Boise City, OK, Boise City, GPS RWY 4, Orig, CANCELLED

Butler, PA, Butler County/K W Scholter Field, ILS RWY 8, Amdt 6

Collegeville, PA, Perkiomen Valley, VOR OR GPS RWY 9, Amdt 4

Galeton, PA, Cherry Springs, VOR-A, Amdt 6, CANCELLED

Galeton, PA, Cherry Springs, VOR/DME-A, Orig

Lancaster, PA, Lancaster, RNAV (GPS) RWY 8, Orig

Angleton/Lake Jackson, TX, Brazoria County, NDB RWY 17, Amdt 3

Angleton/Lake Jackson, TX, Brazoria County, RNAV (GPS) RWY 17, Amdt 1

Angleton/Lake Jackson, TX, Brazoria County, RNAV (GPS) RWY 35, Amdt 1

Conroe, TX, Montgomery County, ILS RWY 14, Amdt 2

Conroe, TX, Montgomery County, NDB RWY 14, Amdt 2

Conroe, TX, Montgomery County, RNAV (GPS) RWY 32, Orig

Conroe, TX, Montgomery County, VOR/DME RNAV RWY 32, Amdt 1B, CANCELLED

Conroe, TX, Montomery County, GPS RWY 32, Orig-C, CANCELLED

Hondo, TX, Hondo Muni, RNAV (GPS) RWY 17L, Orig

Hondo, TX, Hondo Muni, GPS RWY 17L, Amdt 1, CANCELLED

Houston, TX, Clover Field, VOR-A, Amdt 1

Houston, TX, Clover Field, GPS RWY 32L, Orig, CANCELLED

Houston, TX, Clover Field, RNAV (GPS) RWY 32L, Orig

Houston, TX, David Wayne Hooks Memorial, RNAV (GPS) RWY 17R, Orig

Houston, TX, David Wayne Hooks Memorial, RNAV (GPS) RWY 35L, Orig

Houston, TX, Ellington Field, RNAV (GPS) RWY 4, Orig

Houston, TX, Ellington Field, GPS RWY 4, Orig-A, CANCELLED

Houston, TX, Ellington Field, GPS RWY 22, Orig, CANCELLED

Houston, TX, George Bush Intercontinental Arpt/Houston, GPS RWY 15L, Orig-B, CANCELLED

Houston, TX, George Bush Intercontinential Arpt/Houston, RNAV (GPS) RWY 15L, Orig

Houston, TX, George Bush Intercontinental Arpt/Houston, GPS RWY 27, Amdt 1, CANCELLED

Houston, TX, George Bush Intercontinental Arpt/Houston, GPS RWY 33R, Orig, CANCELLED

Houston, TX, George Bush Intercontinental Arpt/Houston, RNAV (GPS) RWY 27, Orig

Houston, TX, George Bush Intercontinental Arpt/Houston, RNAV (GPS) RWY 33R, Orig

Houston, TX, Houston-Southwest, NDB RWY 9, Amdt 5

Houston, TX, Houston-Southwest, NDB RWY 27, Amdt 4

Houston, TX, Houston-Southwest, RNAV (GPS) RWY 9, Orig

Houston, TX, Houston-Southwest, RNAV (GPS) RWY 27, Orig

Houston, TX, Houston-Southwest, VOR/DME RNAV RWY 9, Amdt 2

Houston, TX, Houston-Southwest, VOR/DME RNAV RWY 27, Amdt 3

Houston, TX, Houston-Southwest, GPS RWY 27, Orig, CANCELLED

Houston, TX, Houston-Southwest, GPS RWY 9, Orig, CANCELLED

Houston, TX, Sugar Land Muni/Hull Field, VOR/DME-A, Amdt 1

Houston, TX, Sugar Land Muni/Hull Field, NDB RWY 17, Amdt 9

Houston, TX, Sugar Land Muni/Hull Field, RNAV (GPS) RWY 17, Orig

Houston, TX, Sugar Land Muni/Hull Field, RNAV (GPS) RWY 35, Orig

Houston, TX, Weiser Airpark, RNAV (GPS)-E, Orig

Houston, TX, William P. Hobby, VOR/DME RWY 22, Amdt 24A, CANCELLED

La Porte, TX, La Poret Muni, VOR-A, Orig

La Porte, TX, La Porte Muni, VOR OR GPS-A, Amdt 12, CANCELLED

La Porte, TX, La Porte Muni, NDB RWY 30, Amdt 2,

La Porte, TX, La Porte Muni, RNAV (GPS) RWY 30, Orig

Charlotte Amalie, VI, Cyril E King, ILS RWY 10, Amdt 1

Madison, WI, Dane County Regional-Truax Field, VOR RWY 13, Orig

Madison, WI, Dane County Regional-Truax Field, VOR RWY 18, Orig

Madison, WI, Dane County Regional-Truax Field, VOR RWY 36, Orig

Madison, WI, Dane County Regional-Truax Field, VOR OR TACAN OR GPS RWY 13, Amdt 23B, CANCELLED

Madison, WI, Dane County Regional-Truax Field, VOR OR TACAN OR GPS RWY 18, Amdt 20B, CANCELLED

Madison, WI, Dane County Regional-Truax Field, VOR OR TACAN OR GPS RWY 31, Amdt 24C, CANCELLED

Madison, WI, Dane County Regional-Truax Field, VOR/DME OR TACAN RWY 13, Orig

Madison, WI, Dane County Regional-Truax Field, VOR/DME OR TACAN RWY 18, Orig

Madison, WI, Dane County Regional-Truax Field, VOR/DME OR TACAN RWY 31, Orig

Madison, WI, Dane County Regional-Truax Field, NDB RWY 36, Amdt 29

Madison, WI, Dane County Regional-Truax Field, RNAV (GPS) RWY 13, Orig

Madison, WI, Dane County Regional-Truax Field, RNAV (GPS) RWY 18, Orig

Madison, WI, Dane County Regional-Truax Field, RNAV (GPS) RWY 21, Orig-A

Madison, WI, Dane County Regional-Truax Field, RNAV (GPS) RWY 31, Orig

Madison, WI, Dane County Regional-Truax Field, RNAV (GPS) RWY 36, Orig

Oshkosh, WI, Wittman Field, RNAV (GPS) RWY 36, Orig

Note: The FAA published the following procedures in Docket No. 30264, Amdt. No. 2065 to Part 97 of the Federal Aviation Administration Regulations (Federal Register Vol. 66, No. 164, Page 44301-44302, dated Thursday, August 23, 2001) under Section 97.23 & 97.33 effective October 4, 2001 is hereby amended as follows:

Change the effective on the following procedures to November 1, 2001:

Burbank, CA, Burbank-Glendale-Pasadena, VOR RWY 8, Amdt 10C

Burbank, CA Burbank-Glendale-Pasadena, RNAV (GPS) RWY 8, Orig

[FR Doc. 01-22658 Filed 9-7-01; 8:45 am]

BILLING CODE 4910-13-M